OFFICE OF PERSONNEL MANAGEMENT

Excepted Service

AGENCY: U.S. Office of Personnel Management (OPM).

ACTION: Notice.

SUMMARY: This notice identifies Schedule A, B, and C appointing authorities applicable to a single agency that were established or revoked from November 1, 2013, to November 30, 2013.

FOR FURTHER INFORMATION CONTACT: Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No schedule A authorities to report during November 2013.

Schedule B

No schedule B authorities to report during November 2013.

Schedule C

The following Schedule C appointing authorities were approved during November 2013.

Agency name | Organization name | Position title | Authorization No. | Effective date
DEPARTMENT OF AGRICULTURE | Office of the Secretary | Confidential Assistant | DA140004 | 11/5/2013
| Office of the Under Secretary for Rural Development | State Director | DA140010 | 11/15/2013
DEPARTMENT OF COMMERCE | Office of the Under Secretary | Congressional Affairs Specialist | DC140005 | 11/4/2013
| Office of Legislative and Intergovernmental Affairs | Confidential Assistant | DC140006 | 11/4/2013
| Immediate Office | Executive Assistant | DC140007 | 11/4/2013
| Office of Business Liaison | Senior Advisor | DC140011 | 11/26/2013
DEPARTMENT OF DEFENSE | Office of Assistant Secretary of Defense (Legislative Affairs) | Special Assistant | DD130130 | 11/6/2013
DEPARTMENT OF EDUCATION | Office of Elementary and Secondary Education | Confidential Assistant | DB140005 | 11/1/2013
| Office of Communications and Outreach | Special Assistant | DB140007 | 11/7/2013
| Office of the Secretary | Confidential Assistant (2) | DB140011 | 11/12/2013
|  |  | DB140016 | 11/15/2013
|  | Deputy Director, Office of Educational Technology | DB140012 | 11/12/2013
| Office of Legislation and Congressional Affairs | Confidential Assistant | DB140010 | 11/13/2013
| Office of Planning, Evaluation and Policy Development | Confidential Assistant | DB140006 | 11/20/2013
| Office of Communications and Outreach | Special Assistant | DB140019 | 11/22/2013
DEPARTMENT OF ENERGY | Under Secretary for Science | Special Assistant | DE140006 | 11/1/2013
| Office of the Deputy Secretary | Special Advisor | DE130113 | 11/6/2013
| Office of Economic Impact and Diversity | Special Advisor | DE140002 | 11/6/2013
| Office of the Secretary | Special Assistant | DE140005 | 11/6/2013
| Office of Assistant Secretary for Policy and International Affairs | Special Assistant | DE140013 | 11/8/2013
|  | Special Advisor | DE140014 | 11/19/2013
| Office of Public Affairs | Press Secretary | DE140012 | 11/22/2013
EXPORT-IMPORT BANK | Office of the Chairman | Deputy Chief of Staff | EB140001 | 11/7/2013
|  | Executive Vice President and Chief Risk Officer | EB140002 | 11/21/2013
FEDERAL COMMUNICATIONS COMMISSION | Office of Media Relations | Communications Director | FC140005 | 11/20/2013
DEPARTMENT OF HEALTH AND HUMAN SERVICES | Office of Health Reform | Confidential Assistant (Office of Health Reform) | DH140004 | 11/1/2013
DEPARTMENT OF HOMELAND SECURITY | Office of the Assistant Secretary for Policy | Senior Director | DM130155 | 11/6/2013
| Office of the Assistant Secretary for Intergovernmental Affairs | Special Advisor | DM140007 | 11/13/2013
| Office of the Under Secretary for Intelligence and Analysis | Deputy Chief of Staff | DM140010 | 11/26/2013
| Office of the General Counsel | Counselor | DM140012 | 11/26/2013
DEPARTMENT OF HOUSING AND URBAN DEVELOPMENT | Office of the General Counsel | Senior Counsel | DU130045 | 11/1/2013
| Office of Field Policy and Management | Regional Administrator (Northwest/Alaska) | DU140002 | 11/15/2013
| Great Plains (Kansas City) | Regional Administrator (Great Plains) | DU140006 | 11/15/2013
DEPARTMENT OF JUSTICE | Office of Public Affairs | Deputy Press Secretary | DJ140011 | 11/26/2013
NATIONAL AERONAUTICS AND SPACE ADMINISTRATION | Office of the Chief Financial Officer/Comptroller | Policy Analyst | NN140010 | 11/26/2013
NATIONAL MEDIATION BOARD | National Mediation Board | Confidential Assistant | NM140001 | 11/18/2013
OFFICE OF MANAGEMENT AND BUDGET | Strategic Planning and Communications | Specialist for Strategic Planning and Communications | BO140004 | 11/18/2013
|  | Press Secretary | BO140003 | 11/26/2013
OFFICE OF THE UNITED STATES TRADE REPRESENTATIVE | Office of the Ambassador | Director of Scheduling and Advance | TN140001 | 11/12/2013
SOCIAL SECURITY ADMINISTRATION | Office of Communications | Press Officer | SZ140002 | 11/25/2013
DEPARTMENT OF STATE | Office of the Global Women's Issues | Senior Advisor | DS140003 | 11/12/2013
| Bureau of Legislative Affairs | Legislative Management Officer | DS140006 | 11/13/2013
| Bureau of Overseas Buildings Operations | Director, Art In Embassies Program | DS140008 | 11/15/2013
DEPARTMENT OF TRANSPORTATION | Assistant Secretary for Transportation Policy | Deputy Director for Public Engagement | DT130040 | 11/1/2013
| Public Affairs | Press Secretary | DT140005 | 11/26/2013
| Assistant Secretary for Budget and Programs | Deputy Assistant Secretary for Finance and Budget | DT140006 | 11/26/2013
DEPARTMENT OF THE TREASURY | Under Secretary for Terrorism and Financial Intelligence | Senior Advisor | DY140012 | 11/15/2013
| Under Secretary for Domestic Finance | Senior Advisor (2) | DY140013 | 11/15/2013
|  |  | DY140016 | 11/25/2013
UNITED STATES INTERNATIONAL TRADE COMMISSION | Office of Commissioner Kieff | Staff Assistant (Legal) | TC140004 | 11/7/2013

The following Schedule C appointing authorities were revoked during November 2013.

Agency name | Organization name | Position title | Authorization No. | Vacate date
DEPARTMENT OF AGRICULTURE | Rural Housing Service | Chief of Staff | DA130050 | 11/16/2013
DEPARTMENT OF COMMERCE | International Trade Administration | Deputy Director of Public Affairs | DC120013 | 11/1/2013
| Office of the Chief of Staff | Special Assistant | DC090107 | 11/16/2013
| Office of the Under Secretary | Special Advisor to the Under Secretary | DC110093 | 11/29/2013
|  | Senior Policy Advisor | DC120072 | 11/29/2013
DEPARTMENT OF HEALTH AND HUMAN SERVICES | Office of Intergovernmental and External Affairs | Confidential Assistant | DH110116 | 11/2/2013
| Office of the Assistant Secretary for Planning and Evaluation | Director of Coverage Policy (Office of Health Reform) | DH130018 | 11/12/2013
DEPARTMENT OF HOMELAND SECURITY | Office of the Under Secretary for Science and Technology | Advisor | DM130136 | 11/9/2013
| U.S. Customs and Border Protection | Advisor to the Chief of Staff | DM120078 | 11/15/2013
DEPARTMENT OF HOUSING AND URBAN DEVELOPMENT | Office of Policy Development and Research | Special Assistant | DU110011 | 11/2/2013
| Office of Congressional and Intergovernmental Relations | Congressional Relations Specialist | DU120006 | 11/2/2013
|  | Deputy Director of Intergovernmental Relations | DU120035 | 11/2/2013
DEPARTMENT OF THE INTERIOR | Bureau of Ocean Energy Management | Senior Advisor | DI120003 | 11/16/2013
OFFICE OF THE SECRETARY OF DEFENSE | Deputy Under Secretary of Defense (Asian and Pacific Security Affairs) | Senior Advisor for Regional Policy and Integration | DD130001 | 11/3/2013

Authority: 5 U.S.C. 3301 and 3302; E.O. 10577, 3 CFR, 1954-1958 Comp., p. 218.

Katherine Archuleta,
Director, U.S. Office of Personnel Management.

[FR Doc. 2014-00518 Filed 1-13-14; 8:45 am]

BILLING CODE 6325-39-P